DEPARTMENT OF HEALTH AND HUMAN SERVICES

National Institutes of Health

Government-Owned Inventions; Availability for Licensing

AGENCY: National Institutes of Health, HHS.

ACTION: Notice.

SUMMARY: Government owned intellectual property covering imaging agents with improved renal clearance available for licensing and commercialization.

FOR FURTHER INFORMATION CONTACT: Licensing information and copies of the patent applications listed below may be obtained by emailing the indicated licensing contact at the National Heart, Lung, and Blood, Office of Technology Transfer and Development Office of Technology Transfer, 31 Center Drive, Room 4A29, MSC2479, Bethesda, MD 20892-2479; telephone: 301-402-5579. A signed Confidential Disclosure Agreement may be required to receive copies of the patent applications.

SUPPLEMENTARY INFORMATION: The inventions listed below are owned by an agency of the U.S. Government and are available for licensing in the U.S. in accordance with 35 U.S.C. 209 and 37 CFR part 404 to achieve expeditious commercialization of results of federally-funded research and development. Foreign patent applications are filed on selected inventions to extend market coverage for companies and may also be available for licensing. A description of the technology available for licensing follows.

Methods of Using Inhibitors To Enhance Therapeutic Uses of Endocannabinoids

Description of Technology: The invention pertains to methods of using compounds that inhibit fatty acid amide hydrolase (FAAH) enzymes that are responsible for the degradation of oleamide and anandamide. Inhibition of degradation can be used as treatment modality for hypertension and for sleep disorders. The issued patent lists potentially useful compounds, one such useful compound in particular is

Potential Commercial Applications:

• Therapeutics for hypertension

• Therapeutics for anxiety disorders

• Therapeutics for sleep disorders

Development Stage:

• In vivo data available

Inventors: George Kunos and Alexandros Makriyannis (both of NIAAA)

Intellectual Property: HHS Reference No. E-211-2006/0-US-06.

• U.S. Patent 8,293,724 filed April 6, 2010, issued October 23, 2012.

Licensing Contact: Michael Shmilovich, Esq, CLP; 301-435-5019; shmilovm@nih.gov.

Collaborative Research Opportunity: The National Institute of Environmental Health Sciences seeks statements of capability or interest from parties interested in collaborative research to further develop and evaluate, please contact Peg Koelble, Office of Technology Transfer, National Heart, Lung and Blood Institute, koelblep@nhlbi.nih.gov, 301-594-4095.

Dated: September 7, 2017.
Michael Shmilovich,
Senior Licensing and Patenting Manager, National Heart, Lung, and Blood Institute, Office of Technology Transfer and Development.

[FR Doc. 2017-19590 Filed 9-14-17; 8:45 am]

BILLING CODE 4140-01-P